DEPARTMENT OF HEALTH AND HUMAN SERVICES

Administration for Children and Families

Proposed Information Collection Activity; Comment Request

Title: Head Start National Training and Technical Assistance System Quality Assurance Study.

OMB No: New collection.

Description: The Head Start National Training and Technical Assistance Quality Assurance Study is being undertaken to document and provide feedback on the work of the newly designed Head Start Training and Technical Assistance (T/TA) system. The Head Start Bureau awarded this contract to Mathematica Policy Research, Inc., and its subcontractor, Xtria LLC, in October 2004.

Providing training and technical assistance has long been a crucial component of the national-regional Head Start system. Through the new T/TA system, however, the Head Start Bureau has placed greater emphasis on quality and consistency of T/TA service delivery. Under the new T/TA system, the Head Start Bureau's T/TA Branch annually sets national priorities. Regional Office T/TA liaisons oversee the system's 12 contracts, awarded in December 2003, which include locally based content experts in the areas of disabilities, early literacy, child development, fiscal administration and management, health, and family and community partnerships. These content experts support locally based TA specialists (TAS), who work with a caseload of 10 to 12 programs to develop T/TA training plans based on each grantee's self-assessment and the results from the Program Review Instrument for Systems Monitoring (PRISM) process. National contractors provide training and other resources according to priorities determined by the Head Start Bureau and in line with Administration initiatives. Programs can also use their special T/TA grant funds and, when necessary, additional funds from their basic Head Start grant funds to hire consultants or attend training events.

In addition, through Higher Education Grants, universities provide coursework to meet Head Start staff's credentialing needs in partnership with Head Start programs. The Higher Education grantees (HEGs) are organized into three consortia, representing Historically Black Colleges and Universities, Tribal Colleges and Universities and Hispanic/Latino-serving institutions.

For the regional Head Start system, the Quality Assurance Study will assess (1) each Head Start region's implementation and structure of the new system, (2) regional T/TA strategies and services provided to grantees, (3) grantees' progress in assessing T/TA needs and identifying appropriate ways to meet those needs, (4) grantees' annual T/TA plans, and (5) grantees' perceptions about the system's impact on program quality and child outcomes. The study also will analyze whether the HEGs meet their goal of increasing the early childhood credentials of Head Start staff and teachers. In 2005, the study will collect information about the delivery of T/TA services to Head Start and Early Head Start programs through site visits to 48 representative programs (about 4 per region) and site visits to 15 HEGs (5 of each of the 3 types of HEGs). In 2006, the study will visit 36 of the 48 representative Head Start and Early Head Start programs to learn about changes in the T/TA system. All data collection activities have been designed to minimize the burden on respondents by minimizing the time required to respond. Participation in the study is voluntary.

The research will provide the Head Start Bureau and the Administration for Children and Families with information about exemplary practices as well as areas in the T/TA system that could be improved.

Respondents: Early Head Start and Head Start directors, coordinators, specialists, center administrators, teachers and home visitors; locally based TA specialists; university-based HEG project directors, university faculty, Head Start program administrators, and Head Start program staff and teachers.

Estimated Response Burden for Respondents for the Head Start T/TA Quality Assurance Study
Instrument | Number of respondents | Number of responses per respondent | Average burden per response (hours) | Total burden (hours)
Program Site Visit Protocols (2005)
Director | 48 | 1 | 1.5 | 72
Coordinator/Specialist (group) | 144 | 1 | 1.25 | 180
Center Administrator (group) | 288 | 1 | 1.25 | 360
Teacher/Home Visitor (group) | 480 | 1 | 1.25 | 600
Locally Based TA Specialist | 48 | 1 | 1.5 | 72
Program Reviews ᵃ | 48 | 1 | .5 | 24
HEG Site Visit Protocols (2005)
HEG Project Director/Coordinator | 15 | 1 | 1.5 | 22.5
HEG Staff/Faculty (group) | 45 | 1 | 1 | 45
HS Director | 30 | 1 | 1 | 30
HS Staff (group) | 60 | 1 | 1 | 60
Total for 2005 |  |  |  | 1,465.5
Grantee Site Visit Protocols (2006)
Director | 36 | 1 | 1.5 | 54
Coordinator/Specialist (group) | 108 | 1 | 1.25 | 135
Center Administrator (group) | 216 | 1 | 1.25 | 270
Teacher/Home Visitor (group) | 360 | 1 | 1.25 | 450
Locally Based TA Specialist | 36 | 1 | 1.5 | 54
Program Reviews ᵃ | 36 | 1 | .5 | 18
Total for 2006 |  |  |  | 981
Total for 2005 and 2006 |  |  |  | 2,446.5
Estimated Average Burden Hours |  |  |  | 1,223.25
ᵃ These reviews will be conducted with the locally based TA specialists.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: February 4, 2005.
Robert Sargis,
Reports Clearance Officer.

[FR Doc. 05-2744 Filed 2-11-05; 8:45 am]

BILLING CODE 4184-01-M